DEPARTMENT OF THE INTERIOR

Fish and Wildlife Service

[FWS-R1-ES-2013-N105; FXES11130100000C2-134-FF01E00000]

Endangered and Threatened Wildlife and Plants; Recovery Plan for Phyllostegia hispida; Addendum to the Molokai Plant Cluster Recovery Plan

AGENCY: Fish and Wildlife Service, Interior.

ACTION: Notice of document availability.

SUMMARY: We, the U.S. Fish and Wildlife Service, announce the availability of our final recovery plan for Phyllostegia hispida (no common name) under the Endangered Species Act of 1973, as amended (Act). This plant species is endemic to the island of Molokai, Hawaii. This plan is an addendum to the recovery plan for the Molokai Plant Cluster, published in September of 1996. The plan includes recovery objectives and criteria, and specific recovery actions necessary to achieve downlisting and delisting of the species and its removal from the Federal List of Endangered and Threatened Wildlife and Plants.

ADDRESSES: An electronic copy of the recovery plan is available at http://www.fws.gov/endangered/species/recovery-plans.html and http://www.fws.gov/pacific/ecoservices/endangered/recovery/plans.html. Copies of the recovery plan are also available by request from the U.S. Fish and Wildlife Service, Pacific Islands Fish and Wildlife Office, 300 Ala Moana Boulevard, Room 3-122, Box 50088, Honolulu, HI 96850 (telephone: 808-792-9400).

FOR FURTHER INFORMATION CONTACT: Kristi Young, Deputy Field Supervisor, at the above Honolulu address.

SUPPLEMENTARY INFORMATION:

Background

Recovery of endangered or threatened animals and plants is a primary goal of the Endangered Species Act (Act) (16 U.S.C. 1531 et seq.) and our endangered species program. Recovery means improvement of the status of listed species to the point at which listing is no longer required under the criteria set out in section 4(a)(1) of the Act. Recovery plans describe actions considered necessary for the conservation of listed species, establish criteria for downlisting or delisting, and estimate time and cost for implementing the measures needed for recovery.

The Act requires the development of recovery plans for endangered or threatened species, unless such a plan would not promote the conservation of the species. Section 4(f) of the Act requires that public notice, and an opportunity for public review and comment, be provided during recovery plan development. The draft recovery plan for Phyllostegia hispida was published on June 2, 2011, and was available for public comment through August 1, 2011 (76 FR 31973). We have considered information we received from public comments and peer reviewers in our preparation of the final recovery plan, and have summarized that information in an appendix of the approved recovery plan. We welcome continuing public comment on this recovery plan, and we will consider all substantive comments on an ongoing basis to inform the implementation of recovery activities and future updates to the recovery plan.

We listed Phyllostegia hispida under the Act as an endangered species without critical habitat on March 17, 2009 (74 FR 11319). Phyllostegia hispida is found only on the island of Molokai. Currently there are less than 10 wild mature individuals, 3 wild seedlings, and approximately 7 to 10 reintroduced individuals on the island of Molokai. No known population is entirely protected from the numerous factors threatening the species' recovery, and the species is endangered throughout its range. P. hispida is typically found in wet Metrosideros polymorpha (ohia)—dominated forest, occurring between 1,112 and 1,280 meters (3,650 and 4,200 feet) elevation.

The major threats to all known populations are habitat degradation by feral pigs (Sus scrofa); habitat degradation by and competition with invasive introduced plants; predation or herbivory by rats (Rattus spp.) and nonnative slugs; climate change; habitat degradation by landslides and flooding; and the negative demographic and genetic consequences of extremely small population size, as well as the consequent vulnerability to extinction through deterministic or stochastic (chance) events. Native caterpillar species may also pose an herbivory threat to this species.

The short-term recovery objectives for Phyllostegia hispida focus on stabilizing all existing populations. To be considered stable, the species must be managed to control threats (e.g., feral ungulates and invasive plants) and be represented in an ex situ population (such as a nursery or arboretum). The long-term objectives leading to downlisting and delisting are an increase in populations and their numbers. This increase may require outplanting, development of appropriate management and monitoring plans at each site, and conservation agreements with landowners to ensure threats are controlled in perpetuity.

As the species meets reclassification and recovery criteria, we will review the species' status and consider the species for reclassification or removal from the Federal List of Endangered and Threatened Wildlife and Plants.

Authority: The authority for this action is section 4(f) of the Endangered Species Act, 16 U.S.C. 1533 (f).

Dated: July 30, 2013.
Richard R. Hannan,
Acting Regional Director, Pacific Region, U.S. Fish and Wildlife Service.

[FR Doc. 2013-20965 Filed 8-27-13; 8:45 am]

BILLING CODE 4310-55-P